ENVIRONMENTAL PROTECTION AGENCY

40 CFR Part 60

Standards of Performance for New Stationary Sources; Monitoring Requirements

CFR Correction

In Title 40 of the Code of Federal Regulations, Part 60 (60.1 to End), revised as of July 1, 2001, § 60.4 is corrected, on page 34, by removing the second table in paragraph (b)(DD)(1) and on page 28, by moving the second table in paragraph (b)(D)(1) to the end of paragraph (b)(DD)(1) and adding the following table to paragraph (b)(D)(1) in its place.

§ 60.4 Address.

* * * * *

(b) * * *

(D) * * *

(1) * * *

* * * * *

[FR Doc. 02-55517 Filed 6-27-02; 8:45 am]

BILLING CODE 1505-01-D